DEPARTMENT OF TRANSPORTATION

Federal Aviation Administration

14 CFR Part 39

[Docket No. FAA-2004-18565; Directorate Identifier 2003-NM-168-AD]

RIN 2120-AA64

Airworthiness Directives; Airbus Model A330, A340-200, and A340-300 Series Airplanes; and A340-541 and -642 Airplanes

AGENCY: Federal Aviation Administration (FAA), DOT.

ACTION: Notice of proposed rulemaking (NPRM).

SUMMARY: The FAA proposes to adopt a new airworthiness directive (AD) for all Airbus Model A330, A340-200, and A340-300 series airplanes; and A340-541 and -642 airplanes. This proposed AD would require inspecting for damage to certain actuators of the low-pressure shut-off valve (LPSOV), and related investigative and corrective actions if necessary. This proposed AD was prompted by a report of damage to the LPSOV pedestal. We are proposing this AD to ensure that, in the event of an engine fire, the LPSOV actuator functions properly to delay or block the fuel flow to the engine and prevent an uncontrollable fire.

DATES: We must receive comments on this proposed AD by August 9, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

You can get the service information identified in this proposed AD from Airbus, 1 Rond Point Maurice Bellonte, 31707 Blagnac Cedex, France.

You may examine the comments on this proposed AD in the AD docket on the Internet at http://dms.dot.gov.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18565; Directorate Identifier 2003-NM-168-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket that contains the proposal, comments, and any final disposition in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition associated with valves operated by the twin motor actuator (TMA) in the fuel-feed system may exist on certain Airbus Model A330 and A340 series airplanes. A locating pin (dowel) inside the actuator mounting flange is designed to engage with a slot in the valve drive assembly to align the actuator and low-pressure shut-off valve (LPSOV) before a V-band clamp is installed to secure the assembly. During a maintenance engine run-up, a fuel-feed valve was found partly open; however, the fuel system indicated the valve was closed, and no electronic centralized aircraft monitor warning was triggered. Subsequent investigation indicated that the actuator had been installed in an incorrect position relative to the valve, and the locating pin and the slot were damaged. After the LPSOV, associated pedestal assembly, and TMA were subsequently replaced, the valve assembly operated correctly. Further investigation showed that a V-band clamp can be installed if the pin is too far from the actuator mounting flange and the pin isn't engaged in the slot. The potential resulting damage to the pedestal, in the event of an engine fire, could prevent the LPSOV actuator from properly functioning to delay or block the fuel flow to the engine, which could result in an uncontrollable fire.

Relevant Service Information

Airbus has issued Service Bulletins A330-28-3083 (for Model A330 series airplanes) and A340-28-4098 (for Model A340 series airplanes), both dated March 25, 2003. The service information specifies identifying the part number of the low-pressure fuel-feed actuators. For certain actuator part numbers, the service bulletins describe the following procedures, including related investigative and corrective actions:

• Inspecting for damage to the LPSOV pedestal, including the locating slot and pin of the actuator;

• Measuring the distance from the face of the mounting flange to the top of the locating pin;

• Repairing the actuator if that distance exceeds certain limits; and

• Remeasuring the flange-to-pin distance before reinstalling an actuator with the subject part number.

We have determined that accomplishment of the actions specified in the service information will adequately address the unsafe condition. The DGAC mandated the service information and issued French airworthiness directives 2003-359(B) and 2003-360(B), both dated October 1, 2003, to ensure the continued airworthiness of these airplanes in France.

The Airbus service bulletins refer to FR-HITEMP Service Bulletin HTE190021-28-2, dated March 17, 2003, as an additional source of service information for measuring the flange-to-pin distance and correcting any discrepancy.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that AD action is necessary for products of this type design that are certificated for operation in the United States. Therefore, we are proposing this AD, which would require accomplishment of the actions specified in the service information described previously.

Clarification of Proposed Applicability

The French airworthiness directives specify that Model A330 and A340 series airplanes are affected if they are equipped with LPSOV actuators having certain part numbers. The Airbus service bulletins, which are mandated by the French airworthiness directives, specify that operators first identify the part numbers of the actuators. This proposed AD would therefore apply to all Model A330 and A340 series airplanes and require part number identification.

Costs of Compliance

The following table provides the estimated costs for U.S. operators to comply with this proposed AD.

Estimated Costs
Action | Work hours | Average labor rate per hour | Parts | Cost per airplane | Number of U.S.-registered airplanes | Fleet cost
Inspection | 1 | $65 | No parts | $65 | 15 | $715

Currently, there are no U.S.-registered Model A340 series airplanes; however, if any Model A340 will be imported and placed on the U.S. Register in the future, the estimated costs in the above table would apply.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2004-18565; Directorate Identifier 2003-NM-168-AD.

Comments Due Date

(a) The Federal Aviation Administration must receive comments on this airworthiness directive (AD) action by August 9, 2004.

Affected ADs

(b) None.

Applicability

(c) This AD applies to all Airbus Model A330 and A340 series airplanes, certificated in any category.

Unsafe Condition

(d) This AD was prompted by a report of damage to the pedestal of the low-pressure shut-off valve (LPSOV). We are issuing this AD to ensure that, in the event of an engine fire, the LPSOV actuator functions properly to delay or block the fuel flow to the engine and prevent an uncontrollable fire.

Compliance

(e) You are responsible for having the actions required by this AD performed within the compliance times specified, unless the actions have already been done.

Part Number Identification

(f) At the applicable time specified in Table 1 of this AD, identify the part number (P/N) of the LPSOV actuator.

Table 1.—Compliance Times
For Model— | Do the actions specified in paragraph (f) of this AD at the earlier of the following times:
A330 series airplanes | Within 16,000 flight hours after the effective date of this AD or Within 53 months after the effective date of this AD.
A340 series airplanes | Within 12,000 flight hours after the effective date of this AD or Within 39 months after the effective date of this AD.

(1) For P/N FRH010041: No further action is required by this AD.

(2) For P/N HTE190021 or HTE190026: Before further flight, do a detailed inspection for damage to the LPSOV pedestal, and measure the distance between the face of the mounting flange and the top of the locating pin (dowel). Do the actions in accordance with the Accomplishment Instructions of Airbus Service Bulletin A330-28-3083 (for Model A330 series airplanes) or A340-28-4098 (for Model A340 series airplanes), both dated March 25, 2003. Do all related investigative and corrective actions before further flight in accordance with the service bulletin, as applicable.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: Airbus Service Bulletins A330-28-3083 and A340-28-4098 refer to FR-HITEMP Service Bulletin HTE190021-28-2, dated March 17, 2003, as an additional source of service information for measuring the flange-to-pin distance.

Parts Installation

(g) As of the effective date of this AD: No person may install an actuator P/N HTE190021 or HTE190026 on any airplane unless the actuator has been measured, and all applicable related investigative and corrective actions have been done, in accordance with the requirements of paragraph (f)(2) of this AD.

Alternative Methods of Compliance (AMOCs)

(h) The Manager, International Branch, ANM-116, Transport Airplane Directorate, FAA, has the authority to approve AMOCs for this AD, if requested using the procedures found in 14 CFR 39.19.

Related Information

(i) French airworthiness directives 2003-359(B) and 2003-360(B), both dated October 1, 2003, also address the subject of this AD.

Issued in Renton, Washington, on June 30, 2004.
Kalene C. Yanamura,
Acting Manager, Transport Airplane Directorate, Aircraft Certification Service.

[FR Doc. 04-15516 Filed 7-7-04; 8:45 am]

BILLING CODE 4910-13-P